DEPARTMENT OF COMMERCE

International Trade Administration

[A-351-826]

Notice of Extension of Time Limit for the Final Results of Antidumping Duty Administrative Review: Small Diameter Circular Seamless Carbon and Alloy Steel Standard, Line and Pressure Pipe From Brazil

AGENCY: Import Administration, International Trade Administration, Department of Commerce.

DATES: Effective Dates: December 20, 2004.

FOR FURTHER INFORMATION CONTACT: Helen Kramer or Patrick Edwards, at (202) 482-0405 or (202) 482-8029, respectively, AD/CVD Operations, Office 7, Import Administration, International Trade Administration, U.S. Department of Commerce, 14th Street and Constitution Avenue, NW., Washington, DC 20230.

SUPPLEMENTARY INFORMATION:

Background

On August 1, 2003, the Department of Commerce (“the Department”) published the opportunity to request administrative review of, inter alia, small diameter circular seamless carbon and alloy steel standard, line and pressure pipe (“seamless line pipe”) from Brazil for the period August 1, 2002, through July 31, 2003. See Antidumping or Countervailing Duty Order, Finding, or Suspended Investigation; Opportunity to Request Administrative Review, 68 FR 45218 (August 1, 2003).

In accordance with 19 CFR 351.213(b)(1), on August 12, 2003, V&M do Brasil, S.A., (“VMB”), respondent in this review, requested that we conduct an administrative review of its sales of the subject merchandise. On September 30, 2003, the Department published in the Federal Register a notice of initiation of this antidumping duty administrative review covering the period August 1, 2002, through July 31, 2003. See Initiation of Antidumping and Countervailing Duty Administrative Reviews, 68 FR 56262 (September 30, 2003). On April 23, 2004, the Department published a notice extending the preliminary results of this review by no more than 120 days. See Notice of Extension of Preliminary Results of Antidumping Duty Administrative Review: Small Diameter Circular Seamless Carbon and Alloy Steel Standard, Line and Pressure Pipe From Brazil, 69 FR 22005 (April 23, 2004). On September 7, 2004, the Department published in the Federal Register its affirmative preliminary results in this administrative review. See Notice of Preliminary Results of Antidumping Duty Administrative Review, 69 FR 54125 (September 7, 2004). Pursuant to section 751(a)(3)(A) of the Tariff Act of 1930, as amended (“the Act”), the final results are currently due on January 5, 2005.

Extension of Time Limit for Final Results

Pursuant to section 751(a)(3)(A) of the Act, as amended, the Department may extend the deadline for completion of the final results of an administrative review if it determines that it is not practicable to complete the final results within the statutory time limit of 120 days from the date on which the preliminary results were published. The Department has determined that due to the complexity of the issues in this review, including (1) the evaluation of cost data, and (2) questions concerning appropriate model matching designations, it is not practicable to complete this review within the time limits mandated by section 751(a)(3)(A) of the Act and section 19 CFR 351.213(h)(1) of the Department's regulations. Therefore, the Department is extending the time limit for the completion of these final results by 30 days. Accordingly, the final results of this review will now be due on February 4, 2005.

This notice is published in accordance with section 751(a)(3)(A) of the Act and section 19 CFR 351.213(h)(2) of the Department's regulations.

Dated: December 14, 2004.
Barbara E. Tillman,
Acting Deputy Assistant Secretary for Import Administration.

[FR Doc. E4-3747 Filed 12-17-04; 8:45 am]

BILLING CODE 3510-DS-P